DEPARTMENT OF THE INTERIOR

Bureau of Land Management

[LLCAD0000, L14300000.DS0000]

Notice of Intent to Prepare an Environmental Impact Statement for the Proposed Tule Wind Project and the Proposed East County Substation Project, San Diego County, CA

AGENCY: Bureau of Land Management, Interior.

ACTION: Notice of intent.

SUMMARY: In compliance with the National Environmental Policy Act (NEPA) of 1969, as amended, the California Environmental Quality Act (CEQA), and the Federal Land Policy and Management Act of 1976, as amended, the Bureau of Land Management (BLM) California Desert District (CDD), Moreno Valley, California, together with the California Public Utilities Commission (CPUC), San Diego County (County), the Bureau of Indian Affairs (BIA), and the California State Lands Commission (CSLC), intend to prepare an Environmental Impact Statement (EIS)/Environmental Impact Report (EIR) for the proposed Tule Wind Project and the proposed East County Substation Project (ECO) and by this notice are announcing the beginning of the scoping process to solicit public comments and identify issues. The BLM will be the lead agency for NEPA compliance and the CPUC will be the lead agency for CEQA compliance.

DATES: This notice initiates the public scoping process for the EIS/EIR. Comments on issues may be submitted in writing until January 28, 2010. The dates and locations of any scoping meetings will be announced at least 15 days before the meeting through local media, newspapers, and the BLM Web site at: http://www.blm.gov/ca/st/en/fo/cdd.html. In order to be considered in the Draft EIS/EIR, all comments must be received prior to the close of the scoping period or 15 days after the last public meeting, whichever is later. We will provide additional opportunities for public participation upon publication of the Draft EIS/EIR.

ADDRESSES: You may submit comments on issues and alternatives related to the Tule Wind Project and East County Transmission Line Project by any of the following methods:

• Web site: http://www.blm.gov/ca/st/en/fo/cdd.html.

• E-mail: catulewind@blm.gov.

• Fax: (951) 697-5299.

• Mail or other delivery service: Attn: Greg Thomsen, BLM California Desert District Office, 22835 Calle San Juan de Los Lagos, Moreno Valley, California 92553-9046.

Documents pertinent to this proposal may be examined at the CDD Office at the address above or the BLM's California State Office, 2800 Cottage Way, Sacramento, California 95825.

FOR FURTHER INFORMATION CONTACT: For further information or to have your name added to our mailing list, contact Greg Thomsen, telephone (951) 697-5237; BLM California Desert District Office, 22835 Calle San Juan de Los Lagos, Moreno Valley, California 92553-9046; e-mail catulewind@blm.gov.

SUPPLEMENTARY INFORMATION: Pacific Wind Development has submitted an application to construct, operate, and maintain an energy generation facility that would generate 200 megawatts of renewable power. The project, known as the Tule Wind Project, would include the construction of new roads, turbines, a transmission line, and other facilities.

The proposed project would be constructed on approximately 15,500 acres, comprised of lands administered by the BLM and the CSLC, lands of the Ewiiaapaayp Indian Reservation, and privately-owned property under the jurisdiction of San Diego County. The BLM lands comprise 12,124.9 acres. The proposed project is located in unincorporated San Diego County, approximately 60 miles east of San Diego, California. The San Diego Gas and Electric Company (SDG&E) has filed an application with the CPUC for the proposed ECO project. The ECO project will include the following: Construction of a new 500/230/138 kilovolt (kV) substation (ECO Substation); a loop-in of the existing 500 kV Southwest Powerlink transmission line; construction of an approximately 13.3-mile-long, 138 kV transmission line from the ECO Substation to the Boulevard Substation; upgrading of the existing Boulevard Substation; dismantling and removal of the existing 69/12 kV substation; and upgrading of the existing SDG&E communication facility at White Star.

As part of the ECO Project, SDG&E has filed an application with the BLM for a right-of-way grant for an approximately 1.5-mile long, 100-foot wide area to construct a 138 kV transmission line within a designated utility corridor.

The purpose of the public scoping process is to determine relevant issues that may influence the scope of the environmental analysis, including alternatives, and guide the process for developing the EIS/EIR. At present, the BLM and the CPUC have identified the following preliminary issues: Special status species, cultural resources, visual resources, and areas of high potential for renewable energy development.

The BLM will use and coordinate the NEPA commenting process to satisfy the public involvement process for Section 106 of the National Historic Preservation Act (16 U.S.C. 470f) as provided in 36 CFR 800.2(d)(3). Native American Tribal consultations will be conducted and tribal concerns will be given due consideration, including impacts on Indian trust assets. Federal, State, and local agencies, along with Tribes and other stakeholders that may be interested or affected by the BLM's, the CPUC's, the CSLC's, the BIA's, or the County's decision on this project are invited to participate in the scoping process and may request or be requested to participate as a cooperating agency. Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2

Thomas Pogacnik,
Deputy State Director, California.

[FR Doc. E9-30779 Filed 12-23-09; 4:15 pm]

BILLING CODE 4310-40-P